SECURITIES AND EXCHANGE COMMISSION

[Release No. 34-69202; File No. SR-BOX-2013-15]

Self-Regulatory Organizations; BOX Options Exchange LLC; Notice of Filing and Immediate Effectiveness of a Proposed Rule Change To Amend the Fee Schedule To Establish Fees for Mini Options on BOX

March 21, 2013.

Correction

In notice document 2013-7009, appearing on pages 18642-18646 in the issue of Wednesday, March 27, 2013, make the following correction:

On page 18642, in the second column, the Release No. and File No., which were inadvertently omitted from the document heading, are added to read as set forth above.

[FR Doc. C1-2013-07009 Filed 4-15-13; 8:45 am]

BILLING CODE 1505-01-D